NATIONAL CREDIT UNION ADMINISTRATION

Sunshine Act Meeting

Time and Date: 10 a.m., Thursday, January 23, 2003.

Place: Board Room, 7th Floor, Room 7047, 1755 Duke Street, Alexandria, VA 22314-3428.

Status: Open.

Matters to be Considered:

1. Quarterly Insurance Fund Report.

2. Texas Member Business Loan Rule Proposed Change.

FOR FURTHER INFORMATION CONTACT: Becky Baker, Secretary of the Board, Telephone: 703-518-6304.

Becky Baker,
Secretary of the Board.

[FR Doc. 03-1380 Filed 1-16-03; 2:30 pm]

BILLING CODE 7535-01-M